NATIONAL SCIENCE FOUNDATION

Notice of Intent To Seek Approval To Reinstate, With Changes, an Information Collection

AGENCY: National Science Foundation.

ACTION: Notice and request for comments.

SUMMARY: The National Science Foundation (NSF) is announcing plans to request clearance of this collection. In accordance with the requirement of section 3506(c)(2)(A) of the Paperwork Reduction Act of 1995 (Pub. L. 104-13), we are providing opportunity for public comment on this action. After obtaining and considering public comment, NSF will prepare the submission requesting that OMB approve clearance of this collection for no longer than 3 years.

Comments are invited on (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

DATES: Written comments on this notice must be received by January 18, 2002, to be assured of consideration. Comments received after that date will be considered to the extent practicable.

FOR ADDITIONAL INFORMATION OR COMMENTS: Contact Suzanne H. Plimpton, Reports Clearance Officer, National Science Foundation, 4201 Wilson Boulevard, Suite 295, Arlington, Virginia 22230; telephone (703) 292-7557 or send e-mail to splimpto@nsf.gov.

SUPPLEMENTARY INFORMATION: The purpose of this task order is to: (1) Identify the types of interactions that take place between ERCs and their industrial sponsors; (2) benefits deriving from them; (3) the differential outcomes and benefits to industry emanating from (a) specific ERC components, e.g., fundamental research, emerging technology, engineered systems, and the integration of research and education, and (b) their respective outputs; and (4) how ERCs work with start-up companies that seek assistance from the centers and with firms that are spin-offs from ERC technology.

Title of Collection: Impact of Industry-Engineering Research Center (ERC) Interaction and Effectiveness of ERC-Trained Industrially Employed Engineers.

OMB Number: 3145-0152.

Expiration Date of Approval: Not applicable.

Type of Request: Intent to seek approval to reinstate, with change, an information collection for three years.

Abstract: “Impact on Industry of Interactions with Engineering Research Centers (ERCs)—Repeat Study”.

Proposed Project: NSF's Directorate for Engineering established the Engineering Research Center (ERC) Program in 1985 to address concerns of industry regarding declining US industrial competitiveness. The mission of the Program as defined by the National Academy of Engineering was to strengthen competitiveness by bringing new approaches and goals to academic engineering research and education, and by forgoing vital new links between universities and industry. The proposed study repeats one conducted when the Program was 10 years old, which studied the outcomes and impacts of ERC involvement upon firms involved with first generation centers. The repeat study would involve firms formally participating with the eight second-generation centers, which were initiated from FY 1994-96. Data will be collected from the representatives to the ERCs of these firms. Data will NOT be used to evaluate individual centers, but, rather, to study the Program's on-going as a whole.

Use of the Information: The resulting information will be used to identify program-wide patterns of outcomes and impacts on organizations that are members of ERCs. Results will be used for continuous program performance improvement and external reporting, e.g., for the Government Performance and Results Act.

Estimate of Burden: Public reporting burden for this collection of information is estimated to average 30 minutes per response.

Respondents: Individuals.

Estimated Number of Responses per Form: 400.

Estimated Total Annual Burden on Respondents: 200 hours.

Frequency of Responses: One time.

Dated: November 13, 2001.
Suzanne H. Plimpton,
Reports Clearance Officer.

[FR Doc. 01-28766 Filed 11-16-01; 8:45 am]

BILLING CODE 7555-01-M